ENVIRONMENTAL PROTECTION AGENCY

[OPP-2004-019; FRL-7352-5]

OPP Pesticide Research and Training Program; Notice of Funds Availability

AGENCY: Environmental Protection Agency (EPA).

ACTION: Notice.

SUMMARY: EPA's Office of Pesticide Programs (OPP) is soliciting proposals from colleges, universities, and other institutions to train graduate and undergraduate students from culturally diverse backgrounds in the Agency's regulatory support and laboratory research activities. These activities are undertaken to provide safer, reduced risk pesticides and to protect public health and the environment. The laboratory research and regulatory support projects with OPP laboratories (located in Ft. Meade, MD) and divisions will be funded separately over a 5-year period. The total funding available for award for laboratory research projects involving graduate students in fiscal year (FY) 2004 is expected to be approximately $90,000. The total funding for regulatory support projects involving graduate and undergraduate students in FY 2004 will range from $60,000 to $100,000. At the conclusion of the first 1-year period of performance on each project, incremental funding may be available for each year, allowing the project to continue for up to 5 periods of performance (approximately 5 years), depending on applicant need and the Agency budget in outlying years. This program will support laboratory research training in areas such as deoxyribonucleic acid (DNA) microarray analysis of toxicogenomic effects of pesticides on cell response and regulatory support training in areas such as the development of assessments of pesticide use patterns, as provided for in section 20 of the Federal Insecticide, Fungicide, and Rodenticide Act (FIFRA).

DATES: Applications must be received by EPA on or before May 28, 2004.

ADDRESSES: Applications may be submitted by mail, fax, or electronically. Please follow the detailed instructions provided in Unit IV.H.1. of the SUPPLEMENTARY INFORMATION.

FOR FURTHER INFORMATION CONTACT: Cynthia Doucoure, Biological and Economic Analysis Division (7503C), Office of Pesticide Programs, Environmental Protection Agency, 1200 Pennsylvania Ave., NW., Washington, DC 20460-0001; telephone number: (703) 308-8133; fax number: (703) 308-8091; e-mail address: doucoure.cynthia@epa.gov.

SUPPLEMENTARY INFORMATION:

I. Overview Information

The following listing provides certain key information concerning the funding opportunity.

• Federal agency name: Environmental Protection Agency (EPA).

• Funding opportunity title: OPP Pesticide Research and Training Program.

• Announcement type: The initial announcement of a funding opportunity.

• Catalog of Federal Domestic Assistance (CFDA) number: Training and Fellowships for the Environmental Protection Agency (Training and Fellowship Grants) No. 66.607. Research Grants No. 66.500, or under Surveys, Studies, Investigations, Training Demonstrations and Educational Outreach No. 66.716

• Dates: Applications must be received by EPA on or before May 28, 2004.

II. General Information

A. Does this Action Apply to Me?

This action may be of particular interest to colleges, universities, and other institutions who have experience and expertise in science and technology programs, specifically in chemical engineering, biology, biochemistry, DNA microarray, entomology, agronomy, toxicology, ecology, and plant/weed science. Since other entities may also be interested, the Agency has not attempted to describe all the specific entities that may be interested in this action. If you have any questions regarding the applicability of this action to a particular entity, consult the person listed under FOR FURTHER INFORMATION CONTACT.

B. How Can I Get Additional Information, Including Copies of this Document and Other Related Information?

1. Docket. EPA has established an official public docket for this action under docket identification (ID) number OPP-2004-019. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in the Unit II.B.1. Once in the system, select “search,” then key in the appropriate docket ID number.

III. Introduction

OPP has provided funding for several grants designed to train graduate and undergraduate students from culturally diverse backgrounds in the Agency's regulatory support and laboratory research activities. In 2002, OPP funded two grants. Through these grants, 10 students received training in various areas including assessment of use patterns to help formulate regulatory decisions on pesticides in EPA's Biological and Economic Analysis Division (BEAD) and in the analysis of residues in peach samples treated with four different insecticides at the Analytical Chemistry Laboratory at Ft. Meade, MD. In 2003, OPP funded a grant to provide DNA microarray technology training at the Ft. Meade laboratory to determine the effects of various pesticides on bacterial cell response. Through this grant, a Ph.D. candidate and a postdoctoral student gained experience in working with and developing this innovative new method that will provide useful data for healthcare facilities, patients, and scientists.

To continue this multifaceted training program, OPP is soliciting proposals from colleges, universities, and other institutions with reputable science and engineering programs to train students in either laboratory research or regulatory support activities. Approximately $90,000 is available to fund grants for laboratory research with universities that have accredited chemical engineering, molecular biology, biochemistry, and DNA microarray programs; another $60,000 to $100,000 is available to fund regulatory support grants with educational institutions that have accredited entomology, agronomy, toxicology, ecology, biology, and plant/weed science programs.

IV. Program Description

A. Purpose and Scope

This program was initiated to train graduate and undergraduate students from culturally diverse backgrounds in OPP's regulatory support and laboratory research activities undertaken to provide safer, reduced risk pesticides and protect public health and the environment. Students are afforded an opportunity to get involved in a broad range of projects that provide hands on OPP training in laboratory research employing the latest technology and in the generation of biological and economic data to support the formulation of regulatory decisions on pesticides. Students receive environmental training and are encouraged to pursue public service careers in various environmentally related fields. These programs are included in the Catalog of Federal Domestic Assistance under numbers 66.607, 66.500, and 66.716 at http://www.cfda.gov/public/whole.pdf.

B. Goal and Objectives

Through the proposals sought under this OPP Pesticide Research and Training Program, EPA intends to work with colleges, universities, and other institutions with reputable science and engineering programs, specifically in chemical engineering, molecular biology, biochemistry, DNA microarray, entomology, agronomy, toxicology, ecology, biology, and plant/weed science, to develop an effective environmental training program. Highly motivated and academically qualified graduate and undergraduate students, from culturally diverse backgrounds, will participate in projects designed to educate them about the scientific and economic data needed to support the formulation of regulatory decisions on pesticides. For example, students assigned to BEAD's branches will be trained in the development of assessments of pesticide use patterns, and students assigned to BEAD's laboratories will learn how to perform research using newly developing technology and methods to generate supporting data. Other projects may include training in the development of human health and ecological risk assessments, pesticide registration/reregistration support, or information technology support activities.

C. Eligibility

1. Applicants. Grant funds are available to accredited 4-year colleges, universities, and other institutions with reputable science and engineering programs specifically in chemical engineering, biology, biochemistry, DNA microarray, entomology, agronomy, toxicology, ecology, and plant/weed science.

To be eligible for consideration, applicants must meet all of the following criteria. Failure to meet the following criteria will result in the automatic disqualification for consideration of the proposal for funding:

• Be an applicant who is eligible to receive funding under this announcement.

• The proposal must address all of the high priority areas for consideration.

• The proposal must meet all format and content requirements contained in this notice.

• The proposal must comply with the directions for submittal contained in this notice.

There are no cost sharing requirements for this project.

2. Qualifications. Applicants will be evaluated on the following criteria:

• Experience and expertise in science and engineering programs, specifically in chemical engineering, molecular biology, biochemistry, DNA microarray, entomology, agronomy, toxicology, ecology, biology, and plant/weed science.

• Commitment by the college, university, or other institution to provide highly motivated and academically qualified graduate and undergraduate students from culturally diverse backgrounds to participate in this training program; use of the institution's biotechnology laboratories, graphics, slides, etc. for preparation of publications and presenting seminars, which will result from these projects.

• The college, university, or other institution has historically attracted a substantial number of highly qualified students from culturally diverse backgrounds.

• The college, university, or other institution has qualified faculty needed to provide detailed instructions in the type of courses that will prepare students for the type of training and easy comprehension expected in the training program.

D. Authority

EPA expects to enter into cooperative agreements under the authority provided in FIFRA section 20 which authorizes the Agency to issue grants or cooperative agreements for research, public education, training, monitoring, demonstration, and studies. Regulations governing these cooperative agreements are found at 40 CFR part 30 for institutions of higher education, colleges and universities, and non-profit organizations; and 40 CFR part 31 for states and local governments. In addition, the provisions in 40 CFR part 32, governing government wide debarment and suspension; and the provisions in 40 CFR part 40, regarding restrictions on lobbying apply. All costs incurred under this program must be allowable under the applicable OMB Cost Circulars: A-87 (states and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements, or contracts). See 40 CFR part 40.

E. Activities to be Funded

The grant will fund training of graduate and undergraduate students from culturally diverse backgrounds in OPP regulatory support and laboratory research projects. Graduate students will be trained in laboratory research using newly developing technology and methods. They will receive DNA microarray analysis training used by OPP to determine the effects of pesticides on cell response. Graduate and undergraduate students will be trained in projects such as the development of assessments on pesticide use patterns, human health, and ecological risk that are used to generate data to provide support in formulating regulatory decisions on pesticides. Other possible projects include registration and reregistration support or information technology support activities.

F. Award and Distribution of Funds

1. Available funding. The funding for the selected award projects are in the form of cooperative agreements awarded under FIFRA section 20. The total funding available for award in FY 2004 is expected to be approximately $90,000. The total funding available for award for regulatory support projects will range from $60,000 to $100,000. At the conclusion of the first 1-year period of performance on each project, incremental funding of up to $200,000 may be made available for distribution to all training projects each year allowing the project to continue for a total of 5 periods of performance (approximately 5 years) and totaling up to $990,000 for the 5-year period, depending on applicant need and the Agency budget in outlying years.

2. Evaluation process and criteria. Applicants will be screened to ensure that they meet all eligibility criteria and will be disqualified if they do not meet all eligibility criteria. All laboratory research and regulatory support proposals will be reviewed, evaluated, and ranked by a selected panel of EPA reviewers based on the following evaluation criteria and weights:

Laboratory Research Proposals (100 points)

• Project proposals must meet minimum requirements for experience and expertise in science and engineering programs, specifically in DNA microarray technology, biochemical engineering, molecular biology, and biochemistry (Weighting: 40 points)

• Qualification and experience of the applicant in providing highly motivated and academically qualified graduate students to participate in training programs. This project will be carried out at EPA's Fort Meade, Maryland Laboratory, and students are expected to be able to conduct literature searches and carry out all aspects of laboratory research projects, prepare publications, and present seminars, which will result from projects. (Weighting: 40 points)

• Experience of the applicant in attracting a substantial number of highly qualified students from culturally diverse backgrounds. (Weighting: 10 points)

• Provisions for a quantitative or qualitative evaluation of the project success at achieving stated goals. (Weighting: 10 points)

Regulatory Support Proposals (100 points)

• Regulatory support proposals must meet minimum requirements for experience and expertise in science programs, specifically in entomology, agronomy, toxicology, ecology, biology, and plant/weed science (Weighting: 40 points)

• Qualification and experience of the applicant in providing highly motivated and academically qualified graduate and undergraduate students to participate in training programs that included the use of the university's or other entities' facilities for preparation of publications and presenting seminars, which will result from projects. (Weighting: 25 points)

• Experience of the applicant in attracting a substantial number of highly qualified students from culturally diverse backgrounds. (Weighting: 25 points)

• Provisions for a quantitative or qualitative evaluation of the project success at achieving stated goals. (Weighting: 10 points)

3. Selection official. The funding decision will be made from the group of top rated proposals by the Division Director of the Biological and Economic Analysis Division, Office of Pesticide Programs. The Agency reserves the right to reject all proposals and make no awards.

4. Dispute resolution process. The procedures for dispute resolution at 40 CFR 30.63 and 40 CFR 31.70 apply.

G. Application Requirements

1. Content requirements. Proposals must be typewritten, double-spaced in 12 point or larger print using 8.5 x 11 inch paper with minimum 1 inch horizontal and vertical margins. Pages must be numbered in order starting with the cover page and continuing through the appendices. One original and one electronic copy (e-mail or disk) is required.

All proposals must include:

• Completed Standard Form SF 424*, Application for Federal Assistance. Please include organization fax number and e-mail address. The application forms are available on line at http://www.epa.gov/ogd/grants/how_to_apply.htm.

• Completed Section B—Budget Categories, on page 1 of Standard Form SF 424A* (see allowable costs discussion below). Blank forms may be located at http://www.epa.gov/ogd/grants/how_to_apply.htm.

• Detailed itemization of the amounts budgeted by individual Object Class Categories (see allowable costs discussion below). Statement regarding whether this proposal is a continuation of a previously funded project. If so, please provide the assistance number and status of the current grant/cooperative agreement.

• Executive Summary. The Executive Summary shall be a stand alone document, not to exceed one page, containing the specifics of what is proposed and what you expect to accomplish regarding measuring or movement toward achieving project goals. This summary should identify the measurable results you expect including general and specific public service benefits.

• Table of contents. A one page table listing the different parts of your proposal and the page number on which each part begins.

• Proposal narrative. Includes Parts I-V as identified below (not to exceed 10 pages).

• Part I—Project title. Self explanatory.

• Part II—Objectives. A numbered list (1, 2, etc.) of concisely written project objectives, in most cases, each objective can be stated in a single sentence.

• Part III—Justification. For each objective listed in Part II, discuss the potential outcome in terms of either regulatory support or laboratory research training to provide safer, reduced risk pesticides and protect public health and the environment.

• Part IV—Approach and methods. Describe in detail how the program will be carried out. Describe how the system or approach will support the program goals.

• Part V—Impact assessment. Please state how you will evaluate the success of the program in terms of measurable results. How and with what measures will humans be better protected as a result of the program.

2. Appendices. These appendices must be included in the cooperative agreement proposal. Additional appendices are not permitted.

• Timetable. A timetable that includes what will be accomplished under each of the objectives during the project and when completion of each objective is anticipated.

• Major participants. List all affiliates or other organizations, educators, trainers, and others having a major role in the proposal. Provide name, organizational affiliation, or occupation and a description of the role each will play in the project. A brief resume (not to exceed two pages) should be submitted for each major project manager, educator, support staff, or other major participant.

3. Allowable costs. EPA grant funds may only be used for the purposes set forth in the cooperative agreement, and must be consistent with the statutory authority for the award. Cooperative agreement funds may not be used for matching funds for other Federal grants, lobbying, or intervention in Federal regulatory or adjudicatory proceedings. In addition, Federal funds may not be used to sue the Federal government or any other governmental entity. All costs identified in the budget must conform to applicable Federal Cost Principles contained in OMB Circular A-87; A-122; and A-21, as appropriate.

4. Federal requirements for recipients. An applicant whose proposal is selected for Federal funding must complete additional forms prior to award (see 40 CFR 30.12 and 31.10), and will be required to certify that they have not been debarred or suspended from participation in Federal assistance awards in accordance with 40 CFR part 32. In addition, Applicants must comply with the Intergovernmental Review Process. Further information regarding this requirement will be provided if your proposal is selected for funding.

H. Application Procedures

1. Submission instructions. You may submit an application through the mail, by fax, or electronically. Regardless of submission method, all applications must be received by EPA on or before May 28, 2004.

As indicated above, each application must include the original paper copy of the submission, along with one electronic copy. The electronic copy of your application package, whether submitted separately by e-mail or on a disk, please ensure that the electronic copy is consolidated into a single file, and that you use Word Perfect WP8/ 9 for Windows, or Adobe pdf 4/5. If mailing a disk, please use a 3.5 disk that is labeled as a proposal for the Office of Pesticide Programs Pesticide Research and Training Program, and include your pertinent information. Please check your electronic submissions to ensure that it does not contain any computer viruses.

Submit your application using one of the following methods:

By mail to: Cynthia Doucoure, Biological and Economic Analysis Division (7503C), Environmental Protection Agency, 1200 Pennsylvania Avenue, NW., Washington, DC 20460.

By fax to: Cynthia Doucoure at fax number: (703) 308-8091.

By e-mail to: doucoure.cynthia@epa.gov.

2. Notification process. The Biological and Economic Analysis Division in OPP will mail an acknowledgment to applicants upon receipt of the application. Once all of the applications have been reviewed, evaluated, and ranked, applicants will be notified of the outcome of the competition. A listing of the successful proposal will be posted on the http://www.epa.gov/pesticides/ website at the conclusion of the competition. The website may also contain additional information about this announcement including information concerning deadline extensions or other modifications.

I. Recipient Reporting Requirements

The successful recipient will be required to submit annual reports, and to submit annual financial reports. The specific information contained within the report will include at a minimum, a comparison of actual accomplishments to the objectives established for the period. The Biological and Economic Analysis Division may request additional information relative to the scope of work in the cooperative agreement and which may be useful for Agency reporting under the Government Performance and Results Act.

V. Submission to Congress and the Comptroller General

Grant solicitations such as this are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to its publication in the Federal Register. This rule is not a “major rule” as defined by 5 U.S.C. 804(2).

List of Subjects

Environmental protection, Grants, Pesticides, Training.

Dated: April 20, 2004.
Margaret Schneider,
Acting Assistant Administrator, Office of Prevention, Pesticides and Toxic Substances.

[FR Doc. 04-9616 Filed 4-27-04; 8:45 am]

BILLING CODE 6560-50-S